DEPARTMENT OF COMMERCE

National Oceanic and Atmospheric Administration

[RTID 0648-XB084]

Gulf of Mexico Fishery Management Council; Public Meeting

AGENCY: National Marine Fisheries Service (NMFS), National Oceanic and Atmospheric Administration (NOAA), Commerce.

ACTION: Notice of a public meeting.

SUMMARY: The Gulf of Mexico Fishery Management Council will hold a one-day meeting via webinar of its Ad Hoc Red Snapper & Grouper-Tilefish Individual Fishing Quota (IFQ) Advisory Panel (AP).

DATES: The meeting will convene on Wednesday, June 2, 2021, from 9 a.m. to 5 p.m., EDT. For agenda details, see SUPPLEMENTARY INFORMATION.

ADDRESSES: The meeting will take place via webinar; you may register by visiting www.gulfcouncil.org and clicking on the AP meeting on the calendar.

Council address: Gulf of Mexico Fishery Management Council, 4107 W Spruce Street, Suite 200, Tampa, FL 33607; telephone: (813) 348-1630.

FOR FURTHER INFORMATION CONTACT: Dr. Ava Lasseter, Anthropologist ava.lasseter@gulfcouncil.org and Dr. Assane Diagne, Economist, assane.diagne@gulfcouncil.org, Gulf of Mexico Fishery Management Council telephone: (813) 348-1630. The Council's website, www.gulfcouncil.org also has details on the proposed agenda and other meeting materials.

SUPPLEMENTARY INFORMATION: The following items are on the agenda, though agenda items may be addressed out of order (changes will be noted on the Council's website when possible).

Tuesday, June 2, 2021; 9 a.m.-5 p.m. EDT

The Advisory Panel will begin with Welcome and Introductions, Adoption of Agenda, Approval of November 7, 2018, Meeting Summary, and Scope of work.

The AP will receive presentations on Red Snapper-IFQ and Grouper-Tilefish-IFQ Review and for Amendments 36B and 36C, followed by discussion and recommendations and public comments.

The AP will discuss any Other Business items.

—Meeting Adjourns

You may attend the meeting via webinar by visiting www.gulfcouncil.org and clicking on the AP meeting on the calendar.

The Agenda is subject to change, and the latest version along with other meeting materials will be posted on www.gulfcouncil.org as they become available.

Although other non-emergency issues not on the agenda may come before the group for discussion, in accordance with the Magnuson-Stevens Fishery Conservation and Management Act (Magnuson-Stevens Act), those issues may not be the subject of formal action during this meeting. Actions will be restricted to those issues specifically identified in this notice and any issues arising after publication of this notice that require emergency action under Section 305(c) of the Magnuson-Stevens Act, provided the public has been notified of the Council's intent to take action to address the emergency at least 5 working days prior to the meeting.

Authority: 16 U.S.C. 1801 et seq.

Dated: May 12, 2021.
Tracey L. Thompson,
Acting Deputy Director, Office of Sustainable Fisheries, National Marine Fisheries Service.

[FR Doc. 2021-10311 Filed 5-14-21; 8:45 am]

BILLING CODE 3510-22-P